DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Study of Factors Influencing Consumer Choices Among Health Plans and Clinicians.” In accordance with the Paperwork Reduction Act of 1995, Public Law 104-13 (44 U.S.C. 3506(c)(2)(A)), AHRQ invites the public to comment on this proposed information collection. This proposed information collection was previously published in the Federal Register on September 3rd, 2008 and allowed 60 days for public comment. No comments were received. The purpose of this notice is to allow an additional 30 days for public comment. This notice differs from the 60 day notice in the following ways: (1) The number of responses has been decreased from 6,000 to 4,950, (2) the burden hours are decreased from 838 to 709, and (3) the descriptions of each experimental arm in the sections: Clinician Choice Experimental Design and Health Plan Choice Experimental Design were removed.

DATES: Comments on this notice must be received by August 21, 2009.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“Study of Factors Influencing Consumer Choices Among Health Plans and Clinicians”

AHRQ proposes to use an experimental design to determine factors that influence consumers' understanding and use of performance information to select among health plans and clinicians. The experimental design will include two parallel experiments, one designed to assess factors influencing choice of health plans and one designed to assess factors influencing choice of individual doctors. For both the health plan and clinician choice experiments respondents will be randomly assigned to one of six experimental arms that vary according to the type and complexity of performance information and the size of the choice set (number of plans or doctors) included in the Web-based report. Respondents will complete the experiment through a secure online connection from their homes. Data will be derived from pre and post-test questionnaires and from server logs that record the web pages visited and viewing times.

The results of this study will be used to develop recommendations for helping consumers to better understand and more effectively use complex information to select health plans and providers, with the aim of making performance information less burdensome and more accessible, useful, and transparent to the public. This study, funded through cooperative agreements with the RAND Corporation and Harvard University, is being conducted pursuant to AHRQ's statutory mandate to promote health care quality improvement by conducting and supporting research that develops and presents scientific evidence regarding all aspects of health care, 42 U.S.C. 299(b)(l), and to conduct research on health care and on systems for the delivery of such health care, 42 U.S.C. 299a.

Method of Collection

Participants in this study will be recruited through the Knowledge Networks national online panel of consumers. The experimental designs of the clinician choice experiment and of the health plan choice experiment are discussed separately below.

Clinician Choice Experimental Design

Participants will see a web page labeled “Performance Overview” that presents performance information for a set of primary care doctors in a way that allows them to compare doctor ratings. Performance is summarized by assigning one to five stars to show how each doctor compares with others in the same geographic area. Participants can click on hyperlinks or a tab to see more detailed results. The six experimental arms differ in the type and amount of performance information presented and the number of doctors listed.

The goals of the experiment are to assess the process of consumer choice and the extent to which the Consumer Assessment of Healthcare Providers and Systems (CAHPS)-type measures are consulted, and to examine how consumers respond to different types of information about doctor quality, including quantitative patient experience measures, anecdotal reports from individual patients, and clinical performance indicators. The post-test questionnaire will elicit participants' understanding and impressions of the material they saw on the Web site and inquire about how they made their choice. Therefore, the post-test questions will differ across experimental arms.

Health Plan Choice Experimental Design

The basic design of the health plan choice experiment is similar to that used for the clinician choice experiment. The key difference in the choice set is that as is true in real-world choices health plan choice is made complex in the experiment by introducing a larger number of measures of performance, compared to those available to inform clinician choice. Even the simplest experimental arm has twice as many component measures for health plans as for clinicians. Reports from consumers include both anecdotes and a count of aggregate complaints that have been filed against the plan.

Potentially offsetting the cognitive burdens caused by additional measures, health plan choices typically involve fewer options than do clinician choices; in this choice experiment participants will face choice sets involving either 4 or 8 health plans.

A second substantial difference exists between the health plan and clinician choice experiments: the former assesses in an explicit manner the ways in which emotionality affects how consumers make use of information. It will do so in two ways. First, the counts of complaints mentioned above as an additional measure of plan performance represent a quantitative score with a stronger emotional valence than the other measures. Second, two of the experimental arms will “prime” respondents to think about health outcomes in a more emotionally laden manner, to see if this alters the way in which they process this information.

The goals of the experiment are to assess the process of consumer choice and the extent to which CAHPS-type measures are consulted, and to examine how consumers respond to different types of information about health plan quality, including customer services and accessibility of care issues, selected Healthcare Effectiveness Data and Information Set (HEDIS) measures for preventive care and treatment of chronic conditions, and selected reports on enrollee complaint rates and other issues. The post-test questionnaire will elicit participants' understanding and impressions of the material they saw on the Web site and inquire about how they made their choice. Therefore, the post-test questions will differ across experimental arms.

Estimated Annual Respondent Burden

Exhibit 1 shows the estimated annualized burden hours for the respondents' time to participate in this one year experiment. All participants will complete the pre-test, which is estimated to require 5 minutes. As explained above, the experimental website varies by experimental arm; however, based on preliminary testing, each participant will require an average of 10 minutes to review the information on the site. The post-test questionnaires will require between 7 to 14 minutes to complete, depending on the experimental arm. The total burden hours are estimated to be 709 hours.

Exhibit 2 shows the respondents' cost burden associated with their time to participate in this experiment. The total cost burden is estimated to be $13,887.

Exhibit 1—Estimated Annualized Burden Hours
Experimental group | Number of responses | Number of responses per respondent | Hours per response | Total burden hours
Clinician Choice Experiment: Pretest | 750 | 1 | 5/60 | 63
Experimental Web site | 750 | 1 | 10/60 | 125
Baseline/Control Arm Post-test | 125 | 1 | 7/60 | 15
Experimental Arm #1 Post-test | 125 | 1 | 8/60 | 17
Experimental Arm #2 Post-test | 125 | 1 | 8/60 | 17
Experimental Arm #3 Post-test | 125 | 1 | 12/60 | 25
Experimental Arm #4 Post-test | 125 | 1 | 12/60 | 25
Experimental Arm #5 Post-test | 125 | 1 | 14/60 | 29
Health Plan Choice Experiment: Pretest | 900 | 1 | 5/60 | 75
Experimental Web site | 900 | 1 | 10/60 | 150
Baseline/Control Arm Post-test | 150 | 1 | 7/60 | 18
Experimental Arm #1 Post-test | 150 | 1 | 8/60 | 20
Experimental Arm #2 Post-test | 150 | 1 | 12/60 | 30
Experimental Arm #3 Post-test | 150 | 1 | 12/60 | 30
Experimental Arm #4 Post-test | 150 | 1 | 14/60 | 35
Experimental Arm #5 Post-test | 150 | 1 | 14/60 | 35
Total | 4,950 | na | na | 709

Exhibit 2—Estimated Annualized Cost Burden
Experimental group | Number of respondents | Total burden hours | Average hourly wage rate* | Total cost burden
Clinician Choice Experiment: Pretest | 750 | 63 | $19.56 | $1,232
Experimental Web site | 750 | 125 | 19.56 | 2,445
Baseline/Control Arm Post-test | 125 | 15 | 19.56 | 293
Experimental Arm #1 Post-test | 125 | 17 | 19.56 | 333
Experimental Arm #2 Post-test | 125 | 17 | 19.56 | 333
Experimental Arm #3 Post-test | 125 | 25 | 19.56 | 489
Experimental Arm #4 Post-test | 125 | 25 | 19.56 | 489
Experimental Arm #5 Post-test | 125 | 29 | 19.56 | 567
Health Plan Choice Experiment: Pretest | 900 | 75 | 19.56 | 1,467
Experimental Web site | 900 | 150 | 19.56 | 2,934
Baseline/Control Arm Post-test | 150 | 18 | 19.56 | 352
Experimental Arm #1 Post-test | 150 | 20 | 19.56 | 391
Experimental Arm #2 Post-test | 150 | 30 | 19.56 | 587
Experimental Arm #3 Post-test | 150 | 30 | 19.56 | 587
Experimental Arm #4 Post-test | 150 | 35 | 19.56 | 685
Experimental Arm #5 Post-test | 150 | 35 | 19.56 | 685
Total | 4,950 | 709 | na | 13,887
*Based upon the mean of the average wages, “National Compensation Survey: Occupational Wages in the United States, May 2007,” U.S. Department of Labor, Bureau of Labor Statistics.

Estimated Annual Costs to the Federal Government

Exhibit 3 shows the total and annualized cost for developing and conducting both the health plan and clinician choice components of this study, including the cost of designing the experiments, developing the simulated Web-based reports, conducting usability testing of the Web reports, pilot testing the experiment, collecting the data, analyzing the data, preparing reports and papers for journal submission, and the cost for AHRQ staff to oversee the project. The total and annual costs are identical since data collection will not exceed one year. The total cost is estimated to be $844,000.

Exhibit 3—Total and Annualized Costs
Cost components | Total cost | Annual cost
Experimental design | $168,900 | $168,900
Development of simulated Web-based reports | 157,900 | 157,900
Pilot testing | 56,000 | 56,000
Usability testing of Web-based reports | 56,300 | 56,300
Data collection via Knowledge Networks | 126,000 | 126,000
Data analysis | 56,300 | 56,300
Preparation of reports and journal papers | 112,600 | 112,600
AHRQ project management | 110,000 | 110,000
Total | 844,000 | 844,000

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: July 8, 2009.
Carolyn M. Clancy,
Director.

[FR Doc. E9-17203 Filed 7-21-09; 8:45 am]

BILLING CODE 4160-90-M